DEPARTMENT OF DEFENSE

Office of the Secretary

Defense Innovation Board: Notice of Federal Advisory Committee Meeting

AGENCY: Office of the Deputy Chief Management Officer, Department of Defense (DoD).

ACTION: Notice of Federal Advisory Committee Meeting.

SUMMARY: The DoD is publishing this notice to announce the following Federal Advisory Committee Meeting of the Defense Innovation Board (“the Board”). This meeting is partially closed to the public.

DATES: The public meeting of the Board will be held on Monday, January 9, 2017. The open portion of the meeting will begin at 9:00 a.m. and end at 10:30 a.m. (Escort is required for attendees who do not have Pentagon credentials. See guidance in the SUPPLEMENTARY INFORMATION section.) The closed portion of the meeting will be held from 11:00 a.m. to 2:30 p.m.

ADDRESSES: The open portion of the meeting will be held at The Pentagon, Washington, DC, in the Pentagon Conference Center—Room B6. (Escort is required for attendees who do not have Pentagon credentials. See guidance in the SUPPLEMENTARY INFORMATION section.) The closed portion of the meeting will be held at the Pentagon, Washington, DC, in the Nunn-Lugar Conference Room.

FOR FURTHER INFORMATION CONTACT: The Board's Alternate Designated Federal Officer, Michael Gable, at Defense Innovation Board, 9000 Defense Pentagon, Room 5E572, Washington, DC 20350, michael.l.gable.civ@mail.mil.

For meeting information and to submit written comments or questions to the Board, email osd.innovation@mail.mil. Please include in the subject line “DIB January 2017 Meeting”.

SUPPLEMENTARY INFORMATION: Due to circumstances beyond the control of the Department of Defense, the Defense Innovation Board is unable to provide public notification, as required by 41 CFR 102-3.150(a), for its meeting on Monday, January 9, 2017. Accordingly, the Advisory Committee Management Officer for the Department of Defense, pursuant to 41 CFR 102-3.150(b), waives the 15-calendar day notification requirement.

This meeting is being held under the provisions of the Federal Advisory Committee Act (FACA) of 1972 (5 U.S.C. Appendix, as amended), the Government in the Sunshine Act of 1976 (5 U.S.C. 552b, as amended), and 41 CFR 102-3.140.

Purpose of the Meeting. The mission of the Board is to examine and provide the Secretary of Defense and the Deputy Secretary of Defense independent advice and recommendations on innovative means to address future challenges in terms of integrated change to organizational structure and processes, business and functional concepts, and technology applications. The Board focuses on (a) technology and capabilities, (b) practices and operations, and (c) people and culture.

Meeting Agenda. During the open portion of the meeting, the Board will deliberate and propose observations on how to expand and advance innovation across the Department of Defense. These findings will be based upon discussions and preliminary recommendations from the October 2016 Public Meeting, and observations since that gathering. The Board is scheduled to vote on these recommendations.

Specifically, the Board will deliberate and vote on each of the following interim recommendations: (1) Assess Cyber Security Vulnerabilities; (2) Catalyze Innovations in Artificial Intelligence and Machine Learning; (3) Align Risk and Incentives for Acquisition; (4) Sustain and Increase Support for Promising Approaches to Innovation; (5) Promote Access of DoD Computer Code; (6) Push Software Development to the “Front Line;” (7) Modernize Information Technology; and (8) Reward Bureaucracy Busting. The Board will also deliberate on a potential new recommendation to build a data center to collect all DoD data in a central location for ease of access and analysis.

In addition, the Board will be briefed on the Secretary's announcement to adopt the following three preliminary recommendations and comment on the Department's draft implementation planning: (1) Make computer science a core competency of the Department by increasing the focus on recruiting talented computer scientists and software engineers into the military and civilian workforce; (2) invest more broadly in machine learning through targeted challenges, prize competitions, and a virtual center of excellence model that establishes stretch goals and incentivizes academic and private sector researchers to achieve them; and (3) create a DoD Chief Innovation Officer to act as a senior advisor to the Secretary of Defense and serve as a spearhead for innovation activities.

Lastly, the Board will discuss potential recommendations and advice for the incoming Secretary of Defense to help keep DoD imbued with a culture of innovation to better protect the nation and its allies, and stay ahead of future threats.

During the closed portion of the meeting, the Board will present more detailed discussions of their observations and recommendations to senior leaders from the Office of the Secretary of Defense. They will also receive informational briefings from staff members in the Office of the Secretary of Defense. These presentations and resulting discussions will include classified information.

Public Accessibility to the Meeting. Pursuant to federal statutes and regulations (5 U.S.C. 552b, and 41 CFR 102-3.140 through 102-3.165) and the availability of space, the meeting is open to the public from 9:00 a.m. to 10:30 a.m. Seating is on a first-come basis. Anyone wishing to attend the meeting must send a request to osd.innovation@mail.mil. Please include your full name, title, email address, phone number, organization, and whether you require an escort or not. The subject line should read “Registration for DIB January 2017 Meeting”. Requests for registration must be submitted in writing by January 3, 2017.

Public attendees requiring an escort should arrive at the Pentagon Visitors Center, located near the Pentagon Metro Station's south exit (the escalators to the left upon exiting through the turnstiles) and adjacent to the Pentagon Transit Center bus terminal, with sufficient time to complete security screening no later than 8:15 a.m. on January 9, 2017. Please note that Pentagon tour groups also enter through the Visitors Center, so attendees should be prepared to stand in line. To complete security screening, you must present two forms of government-issued identification, of which, one must include a photograph. While some federal government and military employees are Common Access Card holders and are not required to have an escort, they may be required to pass through the Visitors Center to gain access to the Pentagon.

Special Accommodations: Individuals requiring special accommodations to access the public meeting should include this information when registering so that appropriate arrangements can be made.

Pursuant to 5 U.S.C. 552b(c)(1), the DoD has determined that the portion of the meetings from 11:00 a.m. to 2:30 p.m. shall be closed to the public. The Assistant Deputy Chief Management Officer, in consultation with the Office of the DoD General Counsel, has determined in writing that this portion of the committee's meeting will be closed as the discussions may involve classified matters of national security. Such classified material is so inextricably intertwined with the unclassified material that it cannot reasonably be segregated into separate discussions without disclosing matters that are classified SECRET or higher.

Procedures for Providing Public Comments. Pursuant to section 10(a)(3) of the Federal Advisory Committee Act of 1972 and 41 CFR 102-3.140, the public or interested organizations may submit written comments to the Board about its approved agenda pertaining to this meeting or at any time regarding the Board's mission. Individuals submitting a written statement must submit their statement to the Executive Director at osd.innovation@mail.mil. Written comments that do not pertain to a scheduled meeting may be submitted at any time. However, if individual comments pertain to a specific topic being discussed at the planned meeting, then such comments must be received in writing not later than January 4, 2017. The Executive Director will compile all written submissions received by the deadline, and provide them to Board Members prior to the meeting. Comments received after this date may not be provided to or considered by the Board until a later date.

Dated: December 23, 2016.
Aaron Siegel,
Alternate OSD Federal Register Liaison Officer, Department of Defense.

[FR Doc. 2016-31577 Filed 12-28-16; 8:45 am]

BILLING CODE 5001-06-P